DEPARTMENT OF ENERGY

Federal Energy Regulatory Commission

[Docket No. CP22-466-000]

WBI Energy Transmission, Inc.; Notice of Availability of the Final Environmental Impact Statement for the Proposed Wahpeton Expansion Project

The staff of the Federal Energy Regulatory Commission (FERC or Commission) has prepared a final environmental impact statement (EIS) for the Wahpeton Expansion Project, proposed by WBI Energy Transmission, Inc. (WBI Energy) in the above-referenced docket. WBI Energy requests authorization to construct and operate the Wahpeton Expansion Project to provide firm transportation service for about 20,600 equivalent dekatherms of natural gas per day to meet a growing demand for natural gas in southeastern North Dakota. The project is supported by a binding Precent Agreement with Montana-Dakota Utilities (MDU) for 20,000 equivalent dekatherms of natural gas per day from the existing Mapleton Compressor Station to the proposed MDU-Kindred and MDU-Wahpeton Border Stations to provide natural gas services to the communities of Kindred and Wahpeton, North Dakota.

The final EIS assesses the potential environmental effects of the construction and operation of the Wahpeton Expansion Project in accordance with the requirements of the National Environmental Policy Act (NEPA). The FERC staff concludes that approval of the proposed project, with the mitigation measures recommended in the EIS, would result in some adverse environmental impacts. Most of these impacts would be temporary and occur during construction (e.g., impacts on wetlands, land use, traffic, and noise). With the exception of climate change impacts, that are not characterized in the EIS as significant or insignificant, staff conclude that project effects would not be significant. As part of the analysis, Commission staff developed specific mitigation measures (included in the final EIS as recommendations). Staff recommend that these mitigation measures be attached as conditions to any authorization issued by the Commission.

No agencies elected to participate as a cooperating agency in the preparation of the EIS.

The final EIS addresses the potential environmental effects of the construction and operation of the following project facilities:

• a new 60.2-mile-long, 12-inch-diameter natural gas pipeline;

• minor modifications to WBI Energy's existing Mapleton Compressor Station;

• a new MDU-Wahpeton Border Station;

• a new MDU-Kindred Border Station:

• seven new block valve settings:

• four new pig launcher/receiver settings; and

• ancillary facilities.

The Commission mailed a copy of the Notice of Availability to federal, state, and local government representatives and agencies; elected officials; environmental and public interest groups; Native American tribes; potentially affected landowners and other interested individuals and groups; and newspapers and libraries in the project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search,” and enter the docket number in the “Docket Number” field, excluding the last three digits (i.e., CP22-466). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: April 7, 2023.
Kimberly D. Bose,
Secretary.

[FR Doc. 2023-07809 Filed 4-12-23; 8:45 am]

BILLING CODE 6717-01-P